DEPARTMENT OF ENERGY

Federal Energy Regulatory Commission

Combined Notice of Filings # 1

November 14, 2007.

Take notice that the Commission received the following electric rate filings:

Docket Numbers: ER07-1109-001.

Applicants: American Electric Power Service Corp.

Description: American Electric Power Corp on behalf of Ohio Power Co et. al., submits a Stipulation and Agreement with attachments etc.

Filed Date: 10/15/2007.

Accession Number: 20071017-0106.

Comment Date: 5 p.m. Eastern Time on Wednesday, November 21, 2007.

Docket Numbers: ER02-305-006.

Applicants: Condon Wind Power, LLC.

Description: Condon Wind Power, LLC submits a notice of non-material change in status in accordance with Order 652.

Filed Date: 11/09/2007.

Accession Number: 20071114-0083.

Comment Date: 5 p.m. Eastern Time on Friday, November 30, 2007.

Docket Numbers: ER07-1019-002; ER07-1020-002; ER07-1021-002.

Applicants: Niagara Mohawk Power Corporation.

Description: Refund Report of Niagara Mohawk Power Corporation in Compliance with October 30, 2007 Order.

Filed Date: 11/14/2007.

Accession Number: 20071114-5053.

Comment Date: 5 p.m. Eastern Time on Wednesday, December 5, 2007.

Docket Numbers: ER07-1386-002.

Applicants: Tatanka Wind Power, LLC.

Description: Tatanka Wind Power LLC amends an application to replace the pivotal supplier screen and market share screen currently set forth in section III.A of the 9/17/07 application with screens as Attachment A etc.

Filed Date: 11/08/2007.

Accession Number: 20071113-0003.

Comment Date: 5 p.m. Eastern Time on Friday, November 23, 2007.

Docket Numbers: ER08-107-000.

Applicants: FirstEnergy Generation Mansfield Unit 1.

Description: FirstEnergy Generation Mansfield Unit 1 Corp submits application for order granting market based rate authority, accepting market-based rate tariff etc.

Filed Date: 10/26/2007.

Accession Number: 20071114-0177.

Comment Date: 5 p.m. Eastern Time on Monday, November 26, 2007.

Docket Numbers: ER08-197-000.

Applicants: FPL Energy Oliver Wind II, LLC.

Description: FPL Energy Oliver Wind II, LLC submits their request for authorization to sell energy and capacity at market-based rates, and waiver of the 60-day notice requirement.

Filed Date: 11/08/2007.

Accession Number: 20071113-0004.

Comment Date: 5 p.m. Eastern Time on Thursday, November 29, 2007.

Docket Numbers: ER08-198-000.

Applicants: Pacific Gas and Electric Company.

Description: Pacific Gas and Electric Co submits an annual adjustment to a transmission service rate under the Interconnection Agreement with Sacramento Municipal Utility District.

Filed Date: 11/09/2007.

Accession Number: 20071113-0005.

Comment Date: 5 p.m. Eastern Time on Friday, November 30, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Director.

[FR Doc. E7-22796 Filed 11-21-07; 8:45 am]

BILLING CODE 6717-01-P